DEPARTMENT OF JUSTICE

Notice of Lodging of Proposed Consent Decree Under the Resource Conservation and Recovery Act

Notice is hereby given that on November 15, 2010, a proposed Consent Decree was filed with the United States District Court for the Western District of Missouri in United States et al. v. HPI Products, Inc., et al., No. 08-06133 (W.D. Mo.). The proposed Consent Decree entered into by the United States and the State of Missouri and Defendants HPI Products, Inc., St. Joseph Properties, LLC, and William Garvey, resolves the United States' and Missouri's claims against the Defendants under the hazardous waste generation, storage, and transport provisions of the Resource Conservation and Recovery Act, 42 U.S.C. 6901 (RCRA) et seq., the pre-treatment requirements of the Federal Water Pollution Control Act (Clean Water Act), 40 CFR Part 403 and 33 U.S.C. 1311, 1317, 33 U.S.C. 1251 et seq., and the Emergency Planning and Community Right to Know Act (EPCRA), 42 U.S.C. 11001 et seq., related to their generation, storage, and transport of hazardous wastes at six HPI facilities in St. Joseph, Missouri. Under the terms of the Consent Decree, the Defendants shall pay a civil penalty to the United States of $75,000 and a civil penalty to the State of $75,000 and Garvey will be required to sell his collection of classic cars, boats, and parts and turn over ninety percent of the proceeds to the United States and Missouri as a further civil penalty. In addition, HPI will investigate and clean up any contamination at the six facilities.

The Department of Justice will receive comments relating to the proposed Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States et al. v. HPI Products, Inc., et al., DJ Ref. No. 90-5-1-1-09338.

The proposed Agreement may be examined at the Office of the United States Attorney for the Western District of Missouri, Charles Evans Whittaker Courthouse, Room 5510, 400 East 9th Street, Kansas City, MO 64106, and at the Environmental Protection Agency, Region 7, 901 N. 5th St., Kansas City, KS 66101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.50, or 37.25 (if attachments are requested) (25 cents per page reproduction cost) payable to the U.S. Treasury.

Maureen Katz,
Assistant Section Chief, Environmental Enforcement Section, Environment and Natural Resources Division.

[FR Doc. 2010-29159 Filed 11-18-10; 8:45 am]

BILLING CODE 4410-15-P